NATIONAL SCIENCE FOUNDATION

Agency Information Collection Activities: Comment Request; National Science Foundation Request for Proposals

AGENCY: National Science Foundation.

ACTION: Notice.

SUMMARY: The National Science Foundation (NSF) is announcing plans to reinstate, with changes, this collection. In accordance with the requirements of the Paperwork Reduction Act of 1995, we are providing opportunity for public comment on this action. After obtaining and considering public comment, NSF will prepare the submission requesting Office of Management and Budget (OMB) clearance of this collection for no longer than 3 years.

DATES: Written comments on this notice must be received by August 16, 2022 to be assured consideration. Comments received after that date will be considered to the extent practicable. Send comments to the address below.

FOR FURTHER INFORMATION, OR SEND COMMENTS, CONTACT: Suzanne H. Plimpton, Reports Clearance Officer, National Science Foundation, 2415 Eisenhower Avenue, Suite E7400, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION:

Title of Collection: “National Science Foundation Proposal/Award Information—NSF Proposal and Award Policies and Procedures Guide.”

OMB Approval Number: 3145-0080.

Expiration Date of Approval: Not applicable.

Type of Request: Intent to seek approval to reinstate with revisions an information collection for three years. The primary purpose of this reinstatement is to.

Proposed Project: The National Science Foundation Act of 1950 at 42 U.S.C. 1862(a)(1) allows the National Science Foundation to issue “other arrangements” to “. . . support scientific, engineering, and educational activities and to appraise the impact of research upon industrial development and upon the general welfare.” Issuing other arrangements necessarily includes preparing and issuing requests for other arrangement proposals. Because these are unique to NSF's mission, we are seeking to reinstate this information collection.

Use of the Information: Requests for Other Arrangement Proposals (RFOAPs) are used to competitively solicit proposals in response to NSF science and engineering needs. Impact will be on those individuals or organizations who elect to submit proposals in response to an RFOAP. Information gathered will be evaluated in light of NSF other arrangement requirements to determine who will be awarded an “other arrangement.”

The NSF Act of 1950, as amended, 42 U.S.C. 1870, Sec. II, states that NSF has the authority to:

“(c) enter into contracts or other arrangements, or modifications thereof, for the carrying on, by organizations or individuals in the United States and foreign countries, including other government agencies of the United States and of foreign countries, of such scientific or engineering activities as the Foundation deems necessary to carry out the purposes of this Act, and, at the request of the Secretary of Defense, specific scientific or engineering activities in connection with matter relating to international cooperation or national security, and, when deemed appropriate by the Foundation, such contracts or other arrangements or modifications thereof, may be entered into without legal consideration, without performance or other bonds and without regard to section 5 of title 41, U.S.C.”

Where NSF chooses to issue an “other arrangement,” NSF must receive and evaluate proposals to support NSF's program requirements.

Burden on the Public: The Foundation estimates that an average of 250 hours will be expended for each proposal submitted. An estimated 70 respondents are expected to answer a request for “other arrangements” during the course of one year for a total of 17,500 burden hours annually.

Comments: Comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on those who are to respond, including through the use of appropriate automated, electronic, mechanical, or other technological collection techniques or other forms of information technology.

Dated: June 14, 2022.
Suzanne H. Plimpton,
Reports Clearance Officer, National Science Foundation.

[FR Doc. 2022-13110 Filed 6-16-22; 8:45 am]

BILLING CODE 7555-01-P